DEPARTMENT OF COMMERCE

Patent and Trademark Office

Summer Teacher Institute

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before December 22, 2014.

ADDRESSES: You may submit comments by any of the following methods:

• Email: InformationCollection@uspto.gov. Include “0651-0077 comment” in the subject line of the message.

• Mail: Marcie Lovett, Director, Records Management Division, Office of Information Management Services, United States Patent and Trademark Office, P.O. Box 1450, Alexandria, VA 22313-1450.

• Federal Rulemaking Portal: http://www.regulations.gov.

FOR FURTHER INFORMATION CONTACT: Requests for additional information should be directed to Joyce Ward, Under Secretary of Commerce for Intellectual Property, United States Patent and Trademark Office, P.O. Box 1450, Alexandria, VA 22313-1450; by telephone at 571-272-8424; or by email to Joyce.Ward@uspto.gov.

SUPPLEMENTARY INFORMATION:

I. Abstract

As part of the Maker Fair Initiative, a program entitled “National Teachers' Summer Institute” is sponsored by USPTO. This program accepts applicants for a summer teaching workshop. The program receives applications from individuals, requesting to participate in the Institute, who certify that they are educators with at least 3 years' experience. These applicants are also required to: 1) Have taught in STEM related fields last year, 2) plan to teach in a STEM related field this upcoming year, and 3) to acknowledge their commitment to incorporate the learnings from the Teacher Summer Institute into their curriculum, where applicable, and cooperate with sharing lessons and outcomes with teachers and PTO. This information would come in the form of both applications and surveys.

The USPTO seeks to get committed educators in science fields to learn about innovative strategies to help increase student learning and achievement in these fields and elements of invention and IP. This institute will showcase a collaborative project of the USPTO and the National Science Foundation including an 11 part video series produced by NBC learn with specifically designed lesson plans. The agenda would include scientists, inventors, and fields trips (i.e., to NASA) as well as networking. The USPTO may host various webinars in conjunction with the Summer Institute. USPTO plans to conduct surveys of both the Institute and the webinars in order to gain useful feedback from program participants.

II. Method of Collection

Applications and corresponding surveys will be submitted electronically through the www.uspto.gov/education Web site.

III. Data

OMB Number: 0651-0077.

Form Number(s): NSTI 1-3.

Type of Review: New collection.

Affected Public: Individuals or households; businesses or other for-profits; and not-for-profit institutions.

Estimated Number of Respondents: 900 responses per year.

Estimated Time per Response: The USPTO estimates that it will take the public approximately 5 to 30 minutes to submit the information in this collection, including the time to gather the necessary information, prepare the appropriate form or document, and submit the completed request to the USPTO.

Estimated Total Annual Respondent Burden Hours: 291.67 hours.

Estimated Total Annual Respondent Cost Burden: $8,052.92. Respondent costs are estimated at one rate: $27.61 per hour: the median rate for secondary school teachers, (source: BLS Web site). The USPTO estimates that Application will require approximately 250 burden hours, the Participant Survey will require approximately 16.67 burden hours, and the Webinar Survey will require approximately 25 burden hours for a total yearly hourly burden of 291.67 hours. Accordingly, the total respondent cost burden for this collection will be $8,052.92.

Item | Time (minutes) | Responses (yr) | Burden (hrs/yr) | Rate ($/hr) | Total cost ($/hr)
| (a) | (b) | (c) (a) × (b) | (d) | (e) (c) × (d)
Teacher's Summer Institute Application (NSTI 1) | 30 | 500 | 250 | $27.61 | $6902.50
Teacher's Summer Institute Participant Survey (NSTI 2) | 10 | 100 | 16.67 | 27.61 | 460.17
Teacher's Summer Institute Webinar Survey (NSTI 3) | 5 | 300 | 25 | 27.61 | 690.25
Total |  | 900 | 291.67 |  | 8052.92

Estimated Total Annual Non-hour Respondent Cost Burden: $0. There are no capital start-up, maintenance, postage, or recordkeeping costs. All applications and surveys will be received electronically.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Marcie Lovett,
Director, Records Management Division, Office of Information Management Services, United States Patent and Trademark Office.

[FR Doc. 2014-24965 Filed 10-20-14; 8:45 am]

BILLING CODE 3510-16-P